DEPARTMENT OF COMMERCE

International Trade Administration

Overseas Trade Missions

AGENCY: International Trade Administration, Department of Commerce.

ACTION: Notice.

SUMMARY: The Department of Commerce invites U.S. companies to participate in the below listed overseas trade missions. For a more complete description of each trade mission, obtain a copy of the mission statement from the Project Officer indicated for each mission below. Recruitment and selection of private sector participants for these missions will be conducted according to the Statement of Policy Governing Department of Commerce Overseas Trade Missions, dated March 3, 1997.

Franchising Matchmaker Trade Delegation

Kuala Lumpur, Malaysia; Jakarta, Indonesia; Bangkok, Thailand; and Singapore.

September 9-20, 2002.

Recruitment closes on July 19, 2002.

For further information contact: Mr. Sam Dhir, U.S. Department of Commerce.

Telephone 202-482-4756, or e-mail: Sam.Dhir@mail.doc.gov.

Environmental Technologies Matchmaker Trade Delegation

Prague, Czech Republic; Bratislava, Slovakia; and Vienna, Austria.

September 23-27, 2002.

Recruitment closes on July 22, 2002.

For further information contact: Ms. Yvonne Jackson, U.S. Department of Commerce.

Telephone 202-482-2675, or e-mail: Yvonne.Jackson@mail.doc.gov.

Corporate Executive Office Mission at ExpoPharm 02

Berlin, Germany.

October 10-13, 2002.

For further information contact: Ms. Anette Salama, U.S. Department of Commerce, U.S. Consulate General, Dusseldorf, Germany.

Telephone 011-49-211-737-767-60, or e-mail: Anette.Salama@mail.doc.gov.

Aerospace Business Development Mission to South Africa

Johannesburg and Durban.

October 14-18, 2002.

Recruitment closes on September 9, 2002.

For further information contact: Ms. Karen Dubin, U.S. Department of Commerce.

Telephone 202-482-6236, or e-mail: Karen_Dubin@ita.doc.gov.

Laboratory, Analytical and Scientific Instruments Matchmaker Trade Delegation

Brussels, Belgium and Utrecht, The Netherlands.

November 4-8, 2002.

Recruitment closes on September 20, 2002.

For further information contact: Mr. Bill Kutson, U.S. Department of Commerce.

Telephone 202-482-2839, or e-mail: William.Kutson@mail.doc.gov.

Corporate Executive Office Mission at Medica

Dusseldorf, Germany.

November 20-23, 2002.

For further information contact: Mr. George Martinez, U.S. Department of Commerce.

Telephone 727-893-3738, or e-mail: Geroge.Martinez@mail.doc.gov.

For further information contact Mr. Thomas Nisbet, U.S. Department of Commerce.

Telephone 202-482-5657, or e-mail Tom_Nisbet@ita.doc.gov.

Dated: April 25, 2002.
Thomas H. Nisbet,
Director, Export Promotion Coordination, Office of Planning, Coordination and Management.

[FR Doc. 02-10665 Filed 4-30-02; 8:45 am]

BILLING CODE 3510-DR-P